DEPARTMENT OF TRANSPORTATION

Federal Railroad Administration

[Docket No. FRA-2021-0006-N-14]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before December 21, 2021].

ADDRESSES: Written comments and recommendations for the proposed ICR should be submitted on regulations.gov to the docket, Docket No. FRA-2021-0006. All comments received will be posted without change to the docket, including any personal information provided. Please refer to the assigned OMB control number in any correspondence submitted. FRA will summarize comments received in response to this notice in a subsequent notice and include them in its information collection submission to OMB for approval.

FOR FURTHER INFORMATION CONTACT: Ms. Hodan Wells, Information Collection Clearance Officer, at email: hodan.wells@dot.gov or telephone: (202) 493-0440.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Railroad Signal System.

OMB Control Number: 2130-0006.

Abstract: The information collected under 49 CFR parts 233, 235, and 236 is used by FRA to monitor railroad compliance with FRA's inspection and testing requirements for signal systems, as well as to review and approve railroad requests to discontinue or materially modify existing signal systems. The information collected is also used by FRA to monitor signal failures (e.g., failure of a signal appliance, device, method, or system to function or indicate as required by 49 CFR part 236 that results in a more favorable aspect than intended or other condition hazardous to the movement of a train).

For instance:

• § 233.5 requires each railroad to report to FRA within 24 hours after learning of an accident or incident arising from signal failure.

• § 233.7 requires each railroad to report signal failures within 15 days in accordance with the instructions printed on Form FRA F 6180.14.

• § 235.5 requires railroads to apply for FRA approval to discontinue or materially modify railroad signal systems.

• § 235.8 allows railroads to seek relief from the requirements in 49 CFR part 236.

• § 235.20 describes the protest process, including essential information that must be included in the protest, the address for filing the protest, the time limit for filing the protest, and the requirement that a protestant requesting a public hearing explain why written statements cannot be used to explain his or her position.

• § 236.110 requires that the results of signal system tests required under §§ 236.102-109; §§ 236.376-387; §§ 236.576-577; and §§ 236.586-589 be recorded on pre-printed forms provided by the railroad or by electronic means, subject to FRA approval.

• Finally, § 236.590 requires railroads to clean and inspect the automatic train stop, train control, or cab signal pneumatic apparatus on locomotives and then record the results of the inspection as required by § 229.29(a).

Type of Request: Extension without change (with changes in estimates) of a currently approved collection.

Affected Public: Businesses.

Form(s): FRA F 6180.14.

Respondent Universe: 754 railroads.

Frequency of Submission: On occasion.

Reporting Burden:

CFR section ¹ | Respondent universe | Total annual responses | Average time per responses | Total annual burden hours | Total cost equivalent ²
233.5—Accidents resulting from signal failure—Telephone report to FRA | 754 railroads | 1 telephone call | 30 minutes | 0.50 | $38.72
233.7—Signal failure reports—Form FRA F 6180.14 “False Proceed Signal Report“ | 754 railroads | 10 reports | 15 minutes | 2.50 | 193.60
235.5—Changes requiring filing of application—Signal systems | 80 railroads | 24 applications | 10 hours | 240.00 | 18,585.60
235.8—Relief from the requirements of part 236 of this title | 80 railroads | 10 relief requests | 10 hours | 100.00 | 7,744.00
235.20—Protests—Protestant shall file with FRA against application for relief from part 236 requirements | Railroads and public | 10 protest letters | 30 minutes | 5.00 | 387.20
236.110—Results of tests made in compliance with §§ 236.102-109; 236.376-387; 236.576; 236.577; 236.586-589; and 236.917(a)—Records | 80 railroads | 300,000 (paper records) + 636,660 (electronic records) | 27 minutes (paper) + 8 minutes (electronic) | 219,888.00 | 13,122,915.84
236.590—Pneumatic apparatus—Inspection, cleaning, and results of inspection—Record | 18 railroads | 6,697 stenciling or tags | 22.50 minutes | 2,511.38 | 180,543.11
Total ³ | 754 railroads | 943,412 responses | N/A | 222,747 | 13,330,408
¹ The current inventory exhibits a total burden of 444,820 hours while the total burden of this notice is 222,747 hours. As part of its review of this ICR renewal, FRA determined some of the previous estimates were preliminary, outdated, or duplicative.
² The dollar equivalent cost is derived from the Surface Transportation Board's 2020 Full Year Wage A&B data series using the appropriate employee group hourly wage rate that includes a 75-percent overhead charge.
³ Totals may not add due to rounding.

Total Estimated Annual Responses: 943,412.

Total Estimated Annual Burden: 222,747 hours.

Total Estimated Annual Burden Hour Dollar Cost Equivalent: $13,330,408.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Deputy Chief Counsel.

[FR Doc. 2021-23104 Filed 10-21-21; 8:45 am]

BILLING CODE 4910-06-P